DEFENSE NUCLEAR FACILITIES SAFETY BOARD

Sunshine Act Meetings

Federal Register Citation of Previous Announcment: 80 FR 72052, (November 18, 2015).

PREVIOUSLY ANNOUNCED TIME AND DATE OF MEETING: 1:00 p.m.-3:00 p.m., December 1, 2015.

CHANGES IN MEETING: On page 72052, in the third column, on lines 5 and 6, change the DATES caption to read: “1:00 p.m.-4:00 p.m., December 1, 2015.”

CONTACT PERSON FOR MORE INFORMATION: Mark Welch, General Manager, Defense Nuclear Facilities Safety Board, 625 Indiana Avenue NW., Suite 700, Washington, DC 20004-2901, (800) 788-4016. This is a toll-free number.

Dated: November 30, 2015.
Joyce L. Connery,
Chairman.

[FR Doc. 2015-30624 Filed 12-1-15; 11:15 am]

BILLING CODE 3670-01-P